INTERNATIONAL TRADE COMMISSION

[USITC SE-03-032]

Sunshine Act Meeting

Agency Holding the Meeting: International Trade Commission.

Time and Date: October 22, 2003 at 11 a.m.

Place: Room 101, 500 E Street SW., Washington, DC 20436, Telephone: (202) 205-2000.

Status: Open to the public.

Matters to be Considered: 1. Agenda for future meetings: None.

2. Minutes.

3. Ratification List.

4. Inv. No. 731-TA-1022 (Final) (Refined Brown Aluminum Oxide From China)—briefing and vote. (The Commission is currently scheduled to transmit its determination and Commissioners' opinions to the Secretary of Commerce on or before November 3, 2003.)

5. Outstanding action jackets: None.

In accordance with Commission policy, subject matter listed above, not disposed of at the scheduled meeting, may be carried over to the agenda of the following meeting.

Issued: October 15, 2003.
By order of the Commission.
Marilyn R. Abbott,
Secretary to the Commission.

[FR Doc. 03-26394 Filed 10-15-03; 12:36 pm]

BILLING CODE 7020-02-P